ENVIRONMENTAL PROTECTION AGENCY

40 CFR Part 52

[EPA-R04-OAR-2005-SC-0002-200535(b); FRL-8894-7]

Approval and Promulgation of Implementation Plans; South Carolina; NOX SIP Call Phase II

AGENCY: Environmental Protection Agency (EPA).

ACTION: Proposed rule.

SUMMARY: EPA is proposing to approve a source-specific State Implementation Plan (SIP) revision submitted by the South Carolina Department of Health and Environmental Control on April 14, 2005. This revision responds to EPA's regulation entitled, “Interstate Ozone Transport: Response to Court Decisions on the Nitrogen Oxides (NOX) SIP Call, NOX SIP Call Technical Amendments, and Section 126 Rules,” otherwise known as the “NOX SIP Call Phase II.” This revision meets the requirements of the NOX SIP Call Phase II, which requires South Carolina to submit NOX SIP Call Phase II revisions necessary to achieve applicable, incremental reductions of NOX, including emission reductions from large internal combustion engines. Transcontinental Gas Pipeline Corporation Station 140 (Transco) is the only facility in South Carolina affected by the NOX SIP Call Phase II. The intended effect of this SIP revision is to reduce emissions of NOX originating in the State of South Carolina to help attain and maintain the national ambient air quality standard for ozone. This action is being taken pursuant to section 110 of the Clean Air Act.

In the Final Rules Section of this Federal Register, EPA is approving the State's source-specific SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before May 26, 2009.

ADDRESSES: Submit your comments, identified by Docket ID No. EPA-R04-OAR-2005-SC-0002, by one of the following methods:

1. www.regulations.gov: Follow the on-line instructions for submitting comments.

2. E-mail: ward.nacosta@epa.gov.

3. Fax: (404) 562-9019.

4. Mail: “EPA-R04-OAR-2005-SC-0002,” Regulatory Development Section, Air Planning Branch, Air, Pesticides and Toxics Management Division, U.S. Environmental Protection Agency, Region 4, 61 Forsyth Street, SW., Atlanta, Georgia 30303-8960.

5. Hand Delivery or Courier: Nacosta C. Ward, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Nacosta C. Ward, Regulatory Development Section, Air Planning Branch, Air, Pesticides and Toxics Management Division, U.S. Environmental Protection Agency, Region 4, 61 Forsyth Street, SW., Atlanta, Georgia 30303-8960. The telephone number is (404) 562-9140. Ms. Ward can also be reached via electronic mail at ward.nacosta@epa.gov.

SUPPLEMENTARY INFORMATION: For additional information see the direct final rule which is published in the Rules Section of this Federal Register.

Dated: April 10, 2009.
Beverly H. Banister,
Acting Regional Administrator, Region 4.

[FR Doc. E9-9223 Filed 4-22-09; 8:45 am]

BILLING CODE 6560-50-P